DEPARTMENT OF LABOR

Employment and Training Administration

[TA-W-65,837]

Duro Textiles, LLC, Fall River, MA; Notice of Termination of Investigation

In accordance with Section 221 of the Trade Act of 1974, as amended, an investigation was initiated on April 22, 2009, in response to a petition filed by a company official on behalf of workers of Duro Textiles, LLC, Fall River, Massachusetts.

The petitioner has requested that the petition be withdrawn. Consequently, the investigation has been terminated.

Signed in Washington, DC, this 1st day of May 2009.
Richard Church,
Certifying Officer, Division of Trade Adjustment Assistance.

[FR Doc. E9-13457 Filed 6-8-09; 8:45 am]

BILLING CODE 4510-FN-P